DEPARTMENT OF THE INTERIOR

Fish and Wildlife Service

Draft Comprehensive Conservation Plan for Medicine Lake National Wildlife Refuge Complex, Sheridan, Roosevelt, Daniels, Wibaux Counties, MT

AGENCY: Fish and Wildlife Service, Interior.

ACTION: Notice of availability.

SUMMARY: The U.S. Fish and Wildlife Service (Service) announces that the draft Comprehensive Conservation Plan (CCP) and Environmental Assessment (EA) for the Medicine Lake National Wildlife Refuge Complex (Complex) is available. This draft CCP/EA describes how the Service intends to manage Medicine Lake National Wildlife Refuge (NWR), the Northeast Montana Wetland Management District (WMD), and Lamesteer NWR for the next 15 years.

DATES: We must receive written comments on the draft CCP/EA by September 6, 2007. Submit comments by one of the methods under ADDRESSES.

ADDRESSES: Please provide written comments to Laurie Shannon, Planning Team Leader, Division of Refuge Planning, Mountain-Prairie Region, P.O. Box 25486, Denver Federal Center, Denver, Colorado 80225-0486, or electronically to Laurie_Shannon@fws.gov. A copy of the CCP can be obtained by writing to U.S. Fish and Wildlife Service, Division of Refuge Planning, at the address above; or by download from http://mountain-prairie.fws.gov/planning.

FOR FURTHER INFORMATION CONTACT: Laurie Shannon, 303-236-4317 (phone); 303-236-4792 (fax); or Laurie_Shannon@fws.gov (e-mail).

SUPPLEMENTARY INFORMATION: The Medicine Lake Complex is located within the highly productive prairie pothole region of the Northern Great Plains, along the western edge of the Missouri Coteau, in Northeastern Montana. It is composed of three individual units—the Medicine Lake NWR, the Northeast Montana WMD, and the Lamesteer NWR. These refuges are managed as one complex, and together they are dispersed across four counties and require management of more than 29,757 hectares (73,532 acres) of Service-owned lands and wetland and/or grassland easements or leases on privately-owned land. Medicine Lake NWR encompasses about 12,761 hectares (31,534 acres) including 4,597 hectares (11,360 acres) of designated wilderness and was established in 1935 as “* * * a refuge and breeding ground for migratory birds and other wildlife” (Executive Order 7148, dated August 29, 1935). The Northeast Montana WMD was established in 1968 and consists of Waterfowl Production Areas and wetland and grassland easements. The purpose of these acquired Waterfowl Production Areas and easements is to function as “waterfowl production areas subject to * * * all of the provisions of the Migratory Bird Conservation Stamp Act * * * except the inviolate sanctuary provisions” (16 U.S.C. Section 718). Lamesteer NWR, established in 1942 as an easement refuge, was described as “800 acres in Wibaux County, Montana * * * as refuge and breeding ground for migratory birds and other wildlife” (Executive Order 9166, dated May 19, 1942).

The refuge complex is home to more than 270 species of birds, 38 species of mammals, and 17 species of reptiles and amphibians. Each unit of the National Wildlife Refuge System (NWRS), including the Medicine Lake Complex, has specific purposes for which it was established and for which legislation was enacted. Those purposes are used to develop and prioritize management goals and objectives within the NWRS mission, and to guide which public uses will occur on these refuges. The planning process is a way for the Service and the public to evaluate management goals and objectives for the best possible conservation efforts of this important wildlife habitat, while providing for wildlife-dependent recreation opportunities that are compatible with the refuges' establishing purposes and the mission of the NWRS.

This draft CCP/EA identifies and evaluates three alternatives for managing the Medicine Lake NWR and Northeast WMD and two alternatives for management of Lamesteer NWR for the next 15 years.

For Medicine Lake NWR and the Northeast Montana WMD, under Alternative A, the no action alternative, the Service would manage habitats, wildlife, programs, and facilities at current levels as time, staff, and funds allow. The Service would not develop any new management, restoration, or education programs at the refuge. Improvements of native prairie or mixed-native and nonnative grasslands and tame grasslands would be undertaken when and where feasible. Current wildlife-dependent uses (hunting, fishing, observation, photography, environmental education, and interpretation) would continue at existing levels (about 16,000 visitors annually).

Alternative B, the Service's proposed action would conserve the natural resources of Northeast Montana by restoring or protecting the native and mixed-grass prairie grasslands and maintaining high-quality nesting habitats within the refuge complex. The refuge would reduce populations of selected species of invasive plants, and control of crested wheatgrass would be the management priority. The approved refuge administrative boundary would be expanded through willing sellers or buyers by about 722 hectares (1,784 acres) based on three priority areas. This alternative would focus visitor-use resources on developing access and improving opportunities for wildlife-dependent uses while also encouraging a greater understanding and appreciation for the mixed grass prairie ecosystem.

Alternative C would maximize the conservation of natural resources by restoring or protecting native or mixed-grass prairie and maintaining high-quality nesting habitats within the refuge complex. Reducing the populations of invasive and nonnative plants would be the management priority. The approved refuge administration boundary would be expanded to allow purchase of 3,399 hectares (8,400 acres) primarily in the Big Muddy Creek floodplain corridor between the Medicine Lake and Homestead Units. Visitor services would focus on encouraging a greater understanding and appreciation for the mixed-grass prairie while maintaining access and opportunities for wildlife-dependent uses.

The proposed action was selected because it best meets the purposes and goals of the refuge and wetland management district, as well as the goals of the NWRS. The proposed action also will benefit federally listed species, waterfowl, shorebirds, wading birds, grassland birds, and songbirds. Environmental education and partnerships will result in improved wildlife-dependent recreational opportunities. Cultural and historical resources, as well as federally listed species, will be protected.

For Lamesteer NWR, under Alternative A, the no action alternative, the Service would continue to manage the site as an easement refuge superimposed on privately owned lands to serve as a resting place for migratory birds while on migration. The Service would maintain the dam and spillway, including the funding of all maintenance costs. The landowner would continue to control access to the site, including all hunting access and other public uses.

Alternative B, the Service's proposed action, would relinquish the easement at Lamesteer NWR to the current landowners. The Service would divest its interest in the refuge.

Opportunities for public input also will be provided at a public meeting. Exact dates and times for these public meetings are yet to be determined, but will be announced via local media and a planning update. All information provided voluntarily by mail, phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: June 28, 2007.
J. Mitch King,
Regional Director, Region 6, Denver, CO.

[FR Doc. E7-15291 Filed 8-6-07; 8:45 am]

BILLING CODE 4310-55-P